ENVIRONMENTAL PROTECTION AGENCY

[EPA-HQ-OPP-2009-1017; FRL-8867-8]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to section 6(f)(1) of the Federal Insecticide, Fungicide, and Rodenticide Act (FIFRA), as amended. This cancellation order follows a January 26, 2011 Federal Register Notice of Receipt of Requests from the registrants listed in Table 2 of Unit II. to voluntarily cancel these product registrations. In the January 26, 2011 notice, EPA indicated that it would issue an order implementing the cancellations, unless the Agency received substantive comments within the 30-day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective March 23, 2011.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2009-1017. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the cancellation, as requested by registrants, of 46 products registered under FIFRA section 3. These registrations are listed in sequence by registration number in Table 1 of this unit.

The cancellation of the product with EPA Reg. No. 066330-00264 terminates the last butylate product registered for use in the United States.

Table 1—Product Cancellations
Registration No. | Product name | Active ingredients
000121-00098 | Cutter Insect Repellent El | d-Allethrin
000192-00204 | Dexol Mole Killer Pellets2 | Zinc phosphide
000239-02381 | Triox Vegetation Killer | Prometon
000239-02664 | Weed B Gon Ready-Spray | Benzoic acid, 3,6-dichloro-2-methoxy-, compd with N-methylmethanamine (1:1); Mecoprop, dimethylamine salt; 2,4-D, dimethylamine salt
000270-00319 | AEH Super Concentrate Weed, Grass and Brush Killer | Glufosinate
000432-00552 | Pramex 57% Manufacturing Concentrate | Permethrin
000432-00786 | Permanone 40% EC LPI | Permethrin
000432-01076 | Permanone 40 EC Alternate | Permethrin
000432-01133 | Permanone 3.4 E.C. | Permethrin
000432-01141 | Permanone Eighty | Permethrin
000538-00222 | Scott's Lawn Pro Weed N' 'Feed | MCPA (and salts and esters)
|  | Mecoprop (and salts and esters)
000538-00218 | Scotts Lawn Pro Lawn Weed Control Plus Fertilizer | MCPA (and salts and esters)
|  | Mecoprop (and salts and esters)
001022-00476 | Chapman PQ-8 | Copper, bis
001022-00490 | PQ-57 | Copper, bis
001022-00491 | PQ-15 RTU Clear Wood Preservative | Copper, bis
001022-00492 | PQ-20 | Copper, bis
001022-00493 | PQ-15 | Copper, bis
001022-00503 | PQ-7 | Copper, bis
001022-00504 | PQ-56 RTU | Copper, bis
001022-00505 | PQ-20 R-T-U Wood Preservative | Copper, bis
002382-00128 | Duocide L.A. IGR | MGK 264
|  | Piperonyl butoxide
|  | Permethrin
|  | Pyrethrins
|  | Pyriproxyfen
002596-00119 | Hartz Rabon Flea and Tick Dip for Dogs and Cats | Garadona (cis-isomer)
004822-00512 | Raid 260PO | Sodium chlorite
007424-00009 | Jasco Termin-8 H2O Clear Wood Preservative | Zinc naphthenate
008660-00178 | Golden Vigoro Moss Control Plus Lawn Fertilizer | Ferrous sulfate monohydrate
008660-00205 | Koos Moss Control 16-2-4 | Ferrous sulfate monohydrate
008660-00248 | Lawn Food 10-4-6 Plus Moss Killer | Ferrous sulfate monohydrate
008848-00038 | Black Jack Home & Garden #11 Multi-Purpose Insect Spray | Phenothrin Tetramethrin
009499-00001 | Oxalis/Spurge X | Ammonium thiosulfate
010806-00105 | Pro/Pak Shure Shot Wasp & Hornet Spray | Phenothrin Tetramethrin
013283-00013 | Rainbow Wasp & Ant Spray | Bioallethrin
033660-00003 | Trifluralin Technical | Trifluralin
040849-00052 | Enforcer Wasp & Hornet Killer XI | Phenothrin Tetramethrin
062719-00619 | Oxyfluorfen Technical Oxyfluorfen 4 SC | Oxyfluorfen
062719-00620 | Herbicide | Oxyfluorfen
066330-00068 | Nutrapic | Chloropicrin
066330-00264 | Sutan + 6.7E | Butylate
073049-00258 | Neopynamim Technical | Tetramethrin
073510-00008 | Marketquest One Drop Flea & Tick Control-2 | Permethrin
082498-00005 | Glyphosate Technical | Glyphosate
083933-00001 | Bioguard Paste | Sodium fluoride Boric acid
ID960006 | Fyfanon ULV | Malathion
LA000004 | Fyfanon ULV | Malathion
LA040013 | Penncap-M, Microencapsulated Insecticide | Methyl parathion
NJ950003 | Fyfanon ULV | Malathion
NV960001 | Fyfanon ULV | Malathion

Table 2 of this unit includes the names and addresses of record for all registrants of the products in Table 1 of this unit, in sequence by EPA company number. This number corresponds to the first part of the EPA registration numbers of the products listed in Table 1 of this unit.

Table 2—Registrants of Cancelled Products
EPA Co. No. | Company name and address
121 | Spectrum, a Div. of United Industries Corp., P.O. Box 142642, St. Louis, MO 63114-0642.
192 | Value Gardens Supply, LLC, P.O. Box 585, Saint Joseph, MO 64502.
239 | Scotts Company, The, D/B/A The Ortho Group, P.O. Box 190, Marysville, OH 43040.
270 | Farnam Companies, Inc., D/B/A Central Life Sciences, 301 West Osborn Road, Phoenix, AZ 85013.
432 | Bayer Environmental Science, 2 T. W. Alexander Drive, P.O. Box 12014, Research Triangle Park, NC 27709.
538 | Scotts Company, The, 14111 Scottslawn Road, Marysville, OH 43041.
1022 | IBC Manufacturing Co., 416 E. Brooks Rd, Memphis, TN 38109.
2382 | Virbac AH, Inc., 13001 St. Charles Rock Road, Bridgeton, MO 63044.
2596 | Hartz Mountain Corporation, The, 400 Plaza Drive, Secaucus, NJ 07094.
4822 | S.C. Johnson & Son, Inc., 1525 Howe St., Racine, WI 53403.
7424 | Jasco Chemical Corporation, 200 Westerly Rd, Bellingham, WA 98226.
8660 | United Industries Corp., D/B/A Sylorr Plant Corp, P.O. Box 142642, St. Louis, MO 63114-0642.
8848 | Safeguard Chemical Corp., 8203 West 20th St., Suite A, Greeley, CO 80634-4696.
9499 | National Chelating Company, 8203 West 20th St., Suite A, Greeley, CO 80634-4696.
10806 | Contact Industries, Div. of Safeguard Chemical Corp, 8203 West 20th St., Suite A, Greeley, CO 80634-4696.
13283 | Rainbow Technology Corporation, 8203 West 20th St, Suite A, Greeley, CO 80634-4696.
33660 | Industria Prodotti Chimici S.P.A., 122 C St NW, Suite 740, Washington, DC 20001.
40849 | ZEP Inc., 1310 Seaboard Industrial Blvd. NW, Atlanta, GA 30318.
62719 | Dow AgroSciences, LLC, 9330 Zionsville Road #308/2E, Indianapolis, IN 46268-1054.
66330 | Arysta Lifescience North America, LLC, 15401 Weston Parkway, Suite 150, Cary, NC 27513.
73049 | Valent BioSciences Corporation, 870 Technology Way, Suite 100, Libertyville, IL 60048-6316.
73510 | Marketquest, Inc., Agent: Registrations By Design, Inc., P.O. Box 1019, Salem, VA 24153-3805.
82498 | Agri Packaging & Logistics, Inc., 2509 South Frontage Road, Sardis, MS 38666.
83933 | Preschem Pty. Ltd., 12733 Director's Loop, Woodbridge, VA 22192.
ID960006, LA000004, NJ950003, NV960001 | Cheminova, Inc. Washington Office, 1600 Wilson Boulevard, Suite 700, Arlington, VA 22209.
LA040013 | United Phosphorus, Inc., 630 Freedom Business Center, Suite 402, King of Prussia, PA 19406.

III. Summary of Public Comments Received and Agency Response to Comments

During the public comment period provided, EPA received no comments in response to the January 26, 2011, Federal Register notice announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II are canceled. The effective date of the cancellations that are subject of this notice is March 23, 2011. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of January 26, 2011 (76 FR 4692) (FRL-8856-9). The comment period closed on February 25, 2011.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until March 23, 2012, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

List of Subjects

Environmental protection, Pesticides and pests.

Dated: March 16, 2011.
Richard P. Keigwin, Jr.,
Director, Pesticide Re-evaluation Division, Office of Pesticide Programs.

[FR Doc. 2011-6890 Filed 3-22-11; 8:45 am]

BILLING CODE 6560-50-P